LIBRARY OF CONGRESS

Copyright Royalty Board

37 CFR Parts 350 and 351

[Docket No. RM 2005-1]

Procedural Regulations for the Copyright Royalty Board

AGENCY: Copyright Royalty Board, Library of Congress.

ACTION: Technical correction.

SUMMARY: This document corrects two errors and makes a technical correction in a final rule document published in the Federal Register on September 11, 2006, regarding amendments made to the procedural regulations of the Copyright Royalty Board.

EFFECTIVE DATE: September 11, 2006.

FOR FURTHER INFORMATION CONTACT: Gina Giuffreda, Attorney-Advisor, or Abioye E. Oyewole, CRB Program Specialist. Telephone: (202) 707-7658. Telefax: (202) 252-3423.

SUPPLEMENTARY INFORMATION: On September 11, 2006, the Copyright Royalty Judges, on behalf of the Copyright Royalty Board, adopted amendments to the procedural regulations governing the practices and procedures of the Copyright Royalty Judges in royalty rate and distribution proceedings. 71 FR 53325 (September 11, 2006). However, in two instances, the proper amendatory instruction was inadvertently omitted. Specifically, in § 350.4, the Judges revised the heading for paragraph (e); while the revised text was printed, there was no corresponding amendatory instruction. The same error occurred with regard to the revision of the paragraph heading for § 351.10(c). This document corrects these errors.

In addition, the Judges are making a technical correction to § 351.4(b)(1) by removing the phrase “to be presented in the direct statement” so that the sentence reads less awkwardly.

List of Subjects

37 CFR Part 350

Administrative practice and procedure, Copyright, Lawyers.

37 CFR Part 351

Administrative practice and procedure, Copyright.

For the reasons set forth in the preamble, 37 CFR parts 350 and 351 are corrected as follows:

PART 350—GENERAL ADMINISTRATIVE PROVISIONS

1. The authority citation for part 350 continues to read as follows:

Authority: 17 U.S.C. 803.

2. Section 350.4 is corrected by revising the paragraph heading for paragraph (e) to read as follows:

§ 350.4 Filing and service.

* * * * *

(e) Subscription— * * *

* * * * *

PART 351—PROCEEDINGS

3. The authority citation for part 351 continues to read as follows:

Authority: 17 U.S.C. 803, 805.

§ 351.4 [Amended].

4. Section 351.4 is corrected by removing from paragraph (b)(1) the phrase “to be presented in the direct statement”.

5. Section 351.10 is corrected by revising the paragraph heading for paragraph (c) to read as follows:

§ 351.10 Evidence.

* * * * *

(c) Exhibits— * * *

* * * * *

Dated: October 3, 2006.
James Scott Sledge,
Chief Copyright Royalty Judge.

[FR Doc. E6-16584 Filed 10-5-06; 8:45 am]

BILLING CODE 1410-72-P